ELECTION ASSISTANCE COMMISSION

Sunshine Act Notice

AGENCY: United States Election Assistance Commission.

* * * * *

ACTION: Notice of public meeting agenda.

Date and Time: Thursday, January 27, 2005, 10 a.m.-12 noon.

Place: U.S. Election Assistance Commission, 1225 New York Ave., NW., Suite 1100, Washington, DC 20005, (Metro Stop: Metro Center).

Agenda: The Commission will receive reports on the following: Updates on Title II Requirements Payments. The Commission will receive presentations on the following: State Reports on HAVA Expenditures; Single Audits of HAVA Expenditures; Other Audit Authority under HAVA. The Commission will consider whether to institute a special audit concerning California's use of HAVA funds.

* * * * *

Person To Contact For Information: Bryan Whitener, Telephone: (202) 566-3100.

* * * * *

Paul S. DeGregorio,
Vice-Chairman, U.S. Election Assistance Commission.

[FR Doc. 05-1063 Filed 1-13-05; 4:10 pm]

BILLING CODE 6020-YN-M